DEPARTMENT OF HEALTH AND HUMAN SERVICES

Health Care Financing Administration

[Document Identifier: HCFA-R-260]

Emergency Clearance: Public Information Collection Requirements Submitted to the Office of Management and Budget (OMB)

AGENCY: Health Care Financing Administration, HHS.

In compliance with the requirement of section 3506(c)(2)(A) of the Paperwork Reduction Act of 1995, the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. Due to the fact that the collection of this information is needed before the expiration of the normal time limits under OMB's regulations at 5 CFR Part 1320, we are requesting an emergency review. This is necessary to ensure compliance with the Balanced Budget Refinement Act of 1999 (BBRA). We cannot reasonably comply with the normal clearance procedures because we will not be able to determine adequately and timely whether a potential accreditation organization for Medicare+Choice should be approved unless we have the necessary guidelines against which we can compare the organization's standards. Thus, public harm may result if we approve an organization whose standards are not at least as stringent as ours. We are required to act on applications within 210 days from date of receipt and have begun to receive applications.

The Quality Improvement System for Managed Care (QISMC), developed with the assistance of State and industry representatives, consists of a set of standards and guidelines that are designed to implement the provisions of the Balanced Budget Act of 1997 and the regulations, HCFA-1030-IFC (which established the Medicare+Choice program) and HCFA-2001-P (which would revise the Medicaid managed care program). For Medicare, the QISMC document is equivalent to a program manual. As such, the document simply represents HCFA's administrative interpretation of the Medicare+Choice requirements relating to an organization's operation and performance in the areas of quality measurement and improvement and the delivery of health care and enrollee services. For Medicaid, the standards and guidelines are tools for States to use at their discretion in ensuring the quality of managed care organizations with Medicaid contracts. Use of the QISMC standards assures States that the quality standards they adopt most closely resemble the standards HCFA will be using with Medicare+Choice organizations.

The purpose of this submission is to request approval of use of the revised QISMC standards and guidelines. The revised QISMC standards and guidelines are only slightly different from those currently approved. They incorporate clarifications issued in response to questions from the public generated by the original QISMC and to changes to the M+C regulations made either as the result of public comments or as the result of statutory changes. None of the changes increase the burden on managed care organizations.

HCFA is requesting OMB review and approval of this collection within ten working days of publication of this notice in the Federal Register, with a 180-day approval period. Written comments and recommendations will be accepted from the public if received by the individuals designated below by nine working days of the publication of this notice. During this 180-day period, we will publish a separate Federal Register notice announcing the initiation of an extensive 60-day agency review and public comment period on these requirements. We will submit the requirements for OMB review and an extension of this emergency approval; Type of Information Request: Revision of a currently approved collection; Title of Information Collection: Quality Improvement System for Managed Care; Form Number: HCFA-R-260 (OMB approval #0938-0745); Use: The QISMC standards and guidelines are designed to implement the quality assurance provisions of the Balanced Budget Act of 1997(as amended by the Balanced Budget Refinement Act of 1999) and the regulations they generated, HCFA-1030-IFC and HCFA-2001-P; Frequency:. Annual; Affected Public: Business or other for-profit; Number of Respondents: 263; Total Annual Responses: 263; Total Annual Hours Requested: 1 hour.

To obtain copies of the supporting statement for the proposed paperwork collections referenced above, access HCFA's Web Site Address at www.hcfa.gov/regs/prdact95.htm, or E-mail your request, including your address and phone number, to Paperwork@hcfa.gov, or call the Reports Clearance Office on (410) 786-1326.

Interested persons are invited to send comments regarding the burden or any other aspect of these collections of information requirements. However, as noted above, comments on these information collection and record keeping requirements must be mailed and/or faxed to the designees referenced below within nine working days of the publication of this notice in the Federal Register:

Health Care Financing Administration, Office of Information Services, Security and Standards Group, Division of HCFA Enterprise Standards, Room N2-14-26, 7500 Security Boulevard, Baltimore, MD 21244-1850. Fax Number: (410) 786-0262. Attn: Julie Brown HCFA--R-260

and,

Office of Information and Regulatory Affairs, Office of Management and Budget, Room 10235, New Executive Office Building, Washington, DC 20503, Fax Number: (202) 395-6974 or (202) 395-5167. Attn: Allison Herron Eydt, HCFA Desk Officer.

Dated: July 31, 2000.
John P. Burke III,
HCFA Reports Clearance Officer, HCFA, Office of Information Services, Security and Standards Group, Division of HCFA Enterprise Standards.

[FR Doc. 00-20284 Filed 8-9-00; 8:45 am]

BILLING CODE 4120-03-P